DEPARTMENT OF COMMERCE

International Trade Administration

[A-533-824]

Certain Polyethylene Terephthalate Film, Sheet and Strip from India: Extension of Time Limit for Final Results of Antidumping Duty Administrative Review

AGENCY: Import Administration, International Trade Administration, Department of Commerce.

EFFECTIVE DATE: December 10, 2007.

FOR FURTHER INFORMATION CONTACT: Martha Douthit, AD/CVD Operations, Office 6, Import Administration, International Trade Administration, Department of Commerce, Room 7866, 14th Street and Constitution Avenue, NW, Washington DC 20230; telephone: (202) 482-5050.

SUPPLEMENTARY INFORMATION:

Background

On August 7, 2007, the Department of Commerce (the Department) published the preliminary results of the administrative review of the antidumping duty order on certain polyethlene terephthalate sheet, and strip from India for the period July 1, 2005 through June 30, 2006. See Certain Polyethylene Terephthalate Film, Sheet and Strip From India: Preliminary Results of Antidumping Duty Administrative Review, 72 FR 44086 (August 7, 2007). This review covers one producer of the subject merchandise to the United States.

Extension of Time Limit for Final Results

Section 751(a)(3)(A) of the Tariff Act of 1930, as amended (the Act) requires the Department to issue the final results in an administrative review within 120 days of the publication date of the preliminary results. However, if it is not practicable to complete the review within this time period, section 751(a)(3)(A) of the Act allows the Department to extend the time limit for the final results to a maximum of 180 days. The Department has determined that completion of the final results of this review within the original time period is not practicable. Specifically, the Department requires additional time to analyze whether an adjustment for any countervailing duties imposed on the subject merchandise to offset an export subsidy is warranted. Thus, in accordance with section 751(a)(3)(A) of the Act, the Department is extending the time period for issuing the final results of review by an additional 60 days, from December 5, 2007 until no later than February 4, 2008.

This notice is published pursuant to sections 751(a)(3)(A) and 777(I)(1) of the Act.

Dated: December 4, 2007.
Stephen J. Claeys,
Deputy Assistant Secretary for Import Administration.

[FR Doc. E7-23890 Filed 12-7-07; 8:45 am]

BILLING CODE 3510-DS-S